ENVIRONMENTAL PROTECTION AGENCY

40 CFR Part 52

[FL-87; FL-89-200501, FRL-7869-2]

Approval and Promulgation of Implementation Plans; Florida: Citrus Juice Processing

AGENCY: Environmental Protection Agency (EPA).

ACTION: Final conditional approval.

SUMMARY: The EPA is conditionally approving a revision to the Florida State Implementation Plan (SIP) consisting of a new Florida statute and implementing regulations that set emission limits for existing and new equipment at existing citrus juice processing facilities in Florida. This approval is conditioned upon a commitment from the State to adopt specific enforceable measures, as stated in the proposed rule published January 30, 2004 (69 FR 4459), within one year from the effective date of this rule. If the State fails to meet its commitment by adopting and submitting to EPA the necessary revisions within the one-year period, the approval is treated as a disapproval.

DATES: Effective Date: This rule will be effective March 7, 2005.

ADDRESSES: EPA has established a docket for this action under Docket Control No. FL-87 and FL-89. Some information may not be publicly available, i.e., CBI or other information whose disclosure is restricted by statute. Publicly available docket materials are available at the Air Permits Section, Air Planning Branch, Air, Pesticides and Toxics Management Division, U.S. Environmental Protection Agency, Region 4, 61 Forsyth Street, SW., Atlanta, Georgia 30303-8960. EPA requests that you contact the person listed in the FOR FURTHER INFORMATION CONTACT section to schedule your inspection. The Regional Office's official hours of business are Monday through Friday, 8:30 to 4:30, excluding Federal holidays. Copies of the State submittal are also available for public inspection during normal business hours, by appointment at the State Air Agency: Florida Department of Environmental Protection, Division of Air Resources Management, 2600 Blair Stone Road, Tallahassee, Florida 32399-2400.

FOR FURTHER INFORMATION CONTACT: Ms. Kelly Fortin, Air Permits Section, Air Planning Branch, Air, Pesticides and Toxics Management Division, Region 4, U.S. Environmental Protection Agency, 61 Forsyth Street, SW., Atlanta, Georgia 30303-8960. The telephone number is (404) 562-9117. Ms. Fortin can also be reached via electronic mail at fortin.kelly@epa.gov.

SUPPLEMENTARY INFORMATION:

I. Today's Action

Today's action is a conditional approval under section 110(k)(4) of the Clean Air Act (CAA). EPA may conditionally approve a plan based on a commitment from the State to adopt specific enforceable measures within one year from the effective date of final conditional approval. Because the revisions would materially alter the existing SIP approved rule, the State must make a SIP submittal. If the State fails to adopt and submit the specified measures by the end of one year from the effective date of this conditional approval, or fails to make a submittal, EPA will issue a finding of disapproval. If EPA determines that the rule with the specified measures is approvable, EPA will propose approval of the rule in the Federal Register. EPA will conditionally approve a certain rule only once.

II. Background

EPA is taking this action in response to a request from the Florida Department of Environmental Protection (FDEP) to revise Florida's SIP and Title V operating permit program to include an alternative regulatory program for citrus juice processing facilities. FDEP's complete submittal, received by EPA on July 29, 2002, includes a new citrus statute (Florida Statute 403.08725), which the State adopted in July 2000 and amended on June 12, 2003, as well as draft implementing regulations and supporting material. FDEP formally adopted these implementing regulations in December 2002. 62-210.340 F.A.C. FDEP also requested that the statute and regulation be considered by EPA pursuant to the Joint EPA/State Agreement to Pursue Regulatory Innovation between EPA and the Environmental Council of the States (“ECOS”). 63 FR 24784. After a detailed review, EPA responded to FDEP with letters, dated September 18, 2002, and April 24, 2003, listing several changes to the program that must be made in order for EPA to incorporate the program into the Florida SIP. On January 31, 2003, FDEP made a supplemental submittal outlining their intent to make necessary statutory and regulatory revisions to the program. In a Federal Register notice published on January 30, 2004, EPA requested comment on a proposal to conditionally approve the proposed changes to the Florida SIP. The Federal Register notice described the proposed program and identified specific deficiencies that EPA has determined must be corrected in order for EPA to approve the program as part of the Florida SIP. You may access this notice and the January 30, 2004 Federal Register document electronically at http://www.regulations.gov. No comments were received by EPA during the 30 day public comment period.

The proposed program requires the existing juice processing facilities in Florida to comply with specified terms in the statute when they construct, operate, and modify air emissions units. For some units these conditions are different from those required by the conventional construction and operating permit requirements required by the SIP-approved Florida regulations that currently apply to citrus juice processing facilities. The statute requires a 65 percent recovery (50 percent the first year) of d-limonene oil from peel processed through the peel dryer. This reduction will decrease emissions of volatile organic compounds (VOC) from these facilities by approximately 38 percent. The citrus facilities can comply with the VOC emission limitations through a combination of emission controls, pollution prevention, and emission credits that can be generated through over-control of the juice processing facilities. The statute includes requirements for emissions of VOC, nitrogen oxides (NOX), sulfur dioxide (SO2), and particulate matter (PM), for existing units and for new units. New units include units that are modified or are relocated. The program also incorporates all applicable federal standards (such as maximum achievable control technology (MACT) for hazardous air pollutants and New Source Performance Standards (NSPS)). The statute and implementing regulations will be considered a general permit for the purpose of Title V of the CAA. Further details regarding the program can be found in EPA's January 30, 2004 Federal Register notice and in the public docket referenced above.

Today's approval is conditioned upon FDEP making specific changes to the State statute and regulations. FDEP will have one year from the effective date of this conditional approval to complete and submit to EPA the necessary program revisions. After EPA receives the State's submittal, EPA will review the changes to ensure that they remedy the deficiencies identified in the January 30, 2004 notice. These deficiencies relate to: the allowable fuel sulfur content; PM-10 emissions; a maximum production limit; regulated and toxic air pollutants; public petitions and judicial review; performance measures; and program review. If EPA believes these changes are approvable, EPA will publish a proposed action to approve the SIP and Title V revisions, again soliciting public comment. The Florida statute previously provided that it would expire if EPA did not approve the program as revisions to Florida's SIP and Title V program by January 31, 2005, and that in that event, the applicable requirements would revert back to those of the conventional permitting programs. However, the statutory “sunset” date has been extended to July 1, 2005 (F.S. 403.08725, as amended 5/28/04).

III. Final Action

EPA is conditionally approving the Florida SIP revision consisting of an innovative strategy to create an alternative program for regulating the existing citrus juice industry, which was submitted on January 30, 2001, with additional material submitted on July 16, 2002 and January 31, 2003, with the condition that Florida correct the deficiencies described in our January 30, 2004 action (69 FR 4459). EPA is taking this action pursuant to our authority in section 110(k)4 of the CAA.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve State choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as amended by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 5, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Particulate matter, Reporting and recordkeeping requirements, Sulfur oxides, Volatile organic compounds.

Dated: January 25, 2005.
A. Stanley Meiburg,
Acting Regional Administrator, Region 4.

Part 52 of chapter I, title 40, Code of Federal Regulations, is amended as follows:

PART 52—[AMENDED]

1. The authority citation for part 52 continues to read as follows:

Authority: 42. U.S.C. 7401 et seq.

Subpart (K)—Florida

2. A new § 52.519 is added to read as follows:

§ 52.519 Identification of plan-conditional approval.

EPA is conditionally approving a revision to the Florida State Implementation Plan (SIP) consisting of a new citrus statute (Florida Statute 403.08725), as well as implementing regulations (62-210.340 F.A.C.) based upon a commitment from the State to adopt specific enforceable measures by March 7, 2006. If the State fails to meet its commitment by March 7, 2006, the approval is treated as a disapproval.

[FR Doc. 05-2072 Filed 2-3-05; 8:45 am]

BILLING CODE 6560-50-P